DEPARTMENT OF EDUCATION

[CFDA No.: 84.016A]

Office of Postsecondary Education, Undergraduate International Studies and Foreign Language Program; Notice Inviting Applications for New Awards for Fiscal Year (FY) 2001

Purpose of Program: The Undergraduate International Studies and Foreign Language Program provides grants to strengthen and improve undergraduate instruction in international studies and foreign languages in the United States.

Eligible Applicants: Institutions of higher education; combinations of institutions of higher education; partnerships between nonprofit educational organizations and institutions of higher education; and public and private non-profit agencies and organizations, including professional and scholarly associations.

Deadline for Transmittal of Applications: November 3, 2000.

Deadline for Intergovernmental Review: January 2, 2001.

Applications Available: September 1, 2000.

Available Funds: $2,013,000. The estimated amount of funds available for new awards under this competition is based on the Administration's request for this program for FY 2001. The actual level of funding, if any, is contingent on final congressional action.

Estimated Range of Awards: $40,000-$130,000.

Estimated Average Size of Awards: $74,563 per year.

Estimated Number of Awards: 27.

Note: The Department is not bound by any estimates in this notice.

Project Period: Up to 24 months for grants to single institutions of higher education, and up to 36 months for grants to combinations of institutions of higher education and partnerships.

Applicable Regulations: (a) The Education Department General Administrative Regulations (EDGAR) in 34 CFR parts 74, 75, 77, 79, 82, 85, and 86, 97, 98, 99; and (b) the regulations in 34 CFR parts 655 and 658.

SUPPLEMENTARY INFORMATION: Matching requirement: Under Title VI, Part A, section 604(a)(3) of the Higher Education Act of 1965, Undergraduate International Studies and Foreign Language grantees must provide matching funds in either of the following ways: (a) cash contributions from the private sector equal to one-third of the total project costs; or (b) a combination of institutional and non-institutional cash or in-kind contributions equal to one-half of the total project costs. The Secretary may waive or reduce the required matching share for institutions that are eligible to receive assistance under part A or part B of Title III or under Title V of the Higher Education Act of 1965, as amended.

Priorities

Competitive Priority: Under 34 CFR 75.105(c)(2)(i), 34 CFR 658.35, and section 604(a)(5) of Title VI of the Higher Education Act of 1965, as amended, the Secretary gives preference to applications that meet the following competitive priority. The Secretary awards five points to an application that meets this competitive priority. These points are in addition to any points the application earns under the selection criteria:

Applications from institutions of higher education or combinations of institutions that: (a) Require entering students to have successfully completed at least two years of secondary school foreign language instruction; (b) require each graduating student to earn two years of postsecondary credit in a foreign language or have demonstrated equivalent competence in the foreign language; or (c) in the case of a two-year degree granting institution, offer two years of postsecondary credit in a foreign language.

Invitational Priority: The Secretary is particularly interested in applications that meet the following invitational priority. However under 34 CFR 75.105(c)(1) an application that meets this invitational priority does not receive competitive preference over other applications.

Applications from institutions of higher education that propose activities that enrich or enhance the effectiveness of educational programs abroad, including pre-departure and post-return programs, and integrate education programs abroad into the curriculum of the home institution.

For Applications or Information Contact: Christine Corey, Undergraduate International Studies and Foreign Language Program, U.S. Department of Education, International Education and Graduate Programs Service, 1990 K Street, NW, Suite 600, Washington, DC 20006-8521. Telephone: 202-502-7629. The e-mail address for Ms. Corey is: christine_corey@ed.gov

Individuals who use a telecommunications device for the deaf (TDD) may call the Federal Relay Service (FRS) at 1-800-877-8339.

Individuals with disabilities may obtain this document in an alternate format (e.g., Braille, large print, audiotape, or computer diskette) on request to the contact person listed in the preceding paragraph. However, the Department is not able to reproduce in an alternate format the standard forms included in the application package.

Electronic Access To This Document

You may view this document, as well as all other Department of Education documents published in the Federal Register, in text or Portable Document Format (PDF) on the Internet at either of the following sites:

http://ocfo.ed.gov/fedreg.htm

http://www.ed.gov/news.html

To use the PDF you must have Adobe Acrobat Reader, which is available free at either of the previous sites. If you have any questions about using the PDF, call the U.S. Government Printing Office (GPO) toll free, at 1-888-293-6498; or in the Washington, D.C. area, at (202) 512-1530.

Note: The official version of this document is the document published in the Federal Register. Free Internet access to the official edition of the Federal Register and the Code of Federal Regulations is available on GPO Access at: http://www.access.gpo.gov/nara/index.html

Program Authority: 20 U.S.C. 1124.

Dated: August 4, 2000.
A. Lee Fritschler,
Assistant Secretary, Office of Postsecondary Education.

[FR Doc. 00-20233 Filed 8-9-00; 8:45 am]

BILLING CODE 4000-01-P